DEPARTMENT OF ENERGY

Federal Energy Regulatory Commission

[Docket No. ER04-817-001, et al.]

Indeck Maine Energy, L.L.C., et al.; Electric Rate and Corporate Filings

June 21, 2004.

The following filings have been made with the Commission. The filings are listed in ascending order within each docket classification.

1. Indeck Maine Energy, L.L.C.

[Docket No. ER04-817-001]

Take notice that on June 16, 2004, Indeck Maine Energy, L.L.C. submitted an amendment to its May 5, 2004, filing in Docket No. ER04-817-000.

Comment Date: July 7, 2004.

2. Orange and Rockland Utilities, Inc.

[Docket No. ER04-905-001]

Take notice that on June 17, 2004, Orange and Rockland Utilities, Inc. submitted an amendment to its June 2, 2004, filing in Docket No. ER04-905-000.

Comment Date: July 8, 2004.

3. New York Independent System Operator, Inc.

[Docket No. ER04-932-000]

Take notice that on June 16, 2004, the New York Independent System Operator, Inc. (NYISO), submitted for filing proposed revisions to the NYISO's Open Access Transmission Tariff (OATT) and Market Administration and Control Area Services Tariff (Services Tariff). NYISO states that the proposed filing would amend the NYISO's creditworthiness requirements to add a component for Wholesale Transmission Service Charges to the Operating Requirement and clarify the Unsecured Credit starting point for certain affiliated municipal electric systems. The NYISO requests an effective date of August 16, 2004.

The NYISO states that it has served a copy of this filing to all parties that have executed Service Agreements under the NYISO's OATT or Services Tariff.

Comment Date: July 7, 2004.

4. Consolidated Edison Company of New York, Inc.

[Docket No. ER04-934-000]

Take notice that, on June 16, 2004, Consolidated Edison Company of New York, Inc. (Con Edison) submitted for filing an Interconnection Agreement by and between Con Edison and Power Authority of the State of New York (NYPA), dated as of June 2, 2004. Con Edison states that the agreement provides for the interconnection to Con Edison's transmission system of a 500 MW electric generating facility that NYPA is constructing and proposes to operate in the Borough of Queens, New York.

Con Edison states that copies of this filing have been served on NYPA and the New York Independent System Operator, Inc.

Comment Date: July 7, 2004.

5. Bangor Hydro-Electric Co.

[Docket No. ER00-980-010]

Take notice that on June 8, 2004, Bangor Hydro-Electric Company (BHE) submitted for filing a Supplement to Settlement Agreement (Supplement). BHE states that the sole purpose of the Supplement is to reflect the negotiated resolution of an issue reserved under Article 11.2 of the Settlement Agreement filed on October 10, 2003, and approved by Commission order issued October 30, 2003, in Docket No. ER00-980-008.

BHE states that copies of the filing were served on the official service list in Docket No ER00-980, participants in this proceeding, and the BHE Open Access Transmission Tariff customers.

Comment Date: June 29, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1486 Filed 7-6-04; 8:45 am]

BILLING CODE 6717-01-P